DEPARTMENT OF TRANSPORTATION

Federal Aviation Administration

14 CFR Part 39

[Docket No. FAA-2013-0208; Directorate Identifier 2012-NM-204-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A318, A319, A320, and A321 series airplanes. This proposed AD was prompted by a determination that certain maintenance activities, such as repairs or the accumulation of paint layers, might cause the weight of an elevator to exceed the certified limits. This proposed AD would require checking the weight of certain elevators, and corrective action if necessary; and re-identifying the elevators. We are proposing this AD to detect and correct elevators that exceed the certified weight limits, which could result in reduced control of the airplane.

DATES: We must receive comments on this proposed AD by April 25, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Comments Invited

We invite you to send any written relevant data, views, or arguments about this proposed AD. Send your comments to an address listed under the ADDRESSES section. Include “Docket No. FAA-2013-0208; Directorate Identifier 2012-NM-204-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0221, dated October 23, 2012 (referred to after this as the Mandatory Continuing Airworthiness Information, or “the MCAI”), to correct an unsafe condition for the specified products. The MCAI states:

It has been identified that maintenance activities, such as repairs or the accumulation of paint layers, may cause the weight of an elevator to exceed the certified limits.

This condition, if not detected and corrected, could result in reduced control of the aeroplane.

For the reasons described above, this [EASA] AD requires a onetime weight check of both left-hand (LH) and right-hand (RH) elevators, accomplishment of corrective actions, as applicable, depending on findings, and re-identification of the elevators.

The monitoring of elevator weight evolution after having complied with this [EASA] AD is ensured by Airbus A318/A319/A320/A321 ALS Part 2 CDCCL (Critical Design Configuration Control Limitations), compliance with which is currently required by EASA AD 2010-0071R1 [which corresponds to FAA AD 2011-14-06, Amendment 39-16741 (76 FR 42024, July 18, 2011)].

Corrective action includes removing the paint from the elevator surface and repainting, or replacing the elevator with a serviceable elevator if the weight estimate is over the certified weight limit; and repairing the elevator. You may obtain further information by examining the MCAI in the AD docket.

Relevant Service Information

Airbus has issued Service Bulletin A320-55-1034, including Appendices 1 and 2, dated August 19, 2011; and Service Bulletin A320-55-1042, Revision 01, dated June 29, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

Although Airbus Service Bulletin A320-55-1034, including Appendices 1 and 2, dated August 19, 2011, and the MCAI specify to contact the manufacturer for instructions to repair certain conditions, this proposed AD would require repairing those conditions using a method approved by either the Manager, International Branch, ANM-116, Transport Airplane Directorate, FAA; or the EASA (or its delegated agent).

Costs of Compliance

Based on the service information, we estimate that this proposed AD would affect about 755 products of U.S. registry. We also estimate that it would take about 45 work-hours per product to comply with the basic requirements of this proposed AD. The average labor rate is $85 per work-hour. Based on these figures, we estimate the cost of the proposed AD on U.S. operators to be $2,887,875, or $3,825 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2013-0208; Directorate Identifier 2012-NM-204-AD.

(a) Comments Due Date

We must receive comments by April 25, 2013.

(b) Affected ADs

None.

(c) Applicability

This AD applies to the Airbus airplanes listed in paragraphs (c)(1) through (c)(4) of this AD, certificated in any category, all serial numbers.

(1) Model A318-111, -112, -121, and -122 airplanes.

(2) Model A319-111, -112, -113, -114, -115, -131, -132, and -133 airplanes.

(3) Model A320-111, -211, -212, -214, -231, -232, and -233 airplanes.

(4) Model A321-111, -112, -131, -211, -212, -213, -231, and -232 airplanes.

(d) Subject

Air Transport Association (ATA) of America Code 55, Stabilizers.

(e) Reason

This AD was prompted by a determination that certain maintenance activities, such as repairs or the accumulation of paint layers, might cause the weight of an elevator to exceed the certified limits. We are issuing this AD to detect and correct elevators that exceed certified weight limits, which could result in reduced control of the airplane.

(f) Compliance

You are responsible for having the actions required by this AD performed within the compliance times specified, unless the actions have already been done.

(g) Weight Check

At the applicable time specified in paragraph (h)(1) or (h)(2) of this AD: Do a weight check on the elevators identified in table 1 to paragraph (g) of this AD. Do the weight check in accordance with the Accomplishment Instructions of Airbus Service Bulletin A320-55-1034, including Appendices 1 and 2, dated August 19, 2011, except as specified in paragraphs (g)(1), (g)(2), and (g)(3) of this AD.

Table 1 to Paragraph (g) of This AD—Affected Part Numbers
Part name | P/N (first 12 digits only)
Left Hand Elevator | D55280001000
Left Hand Elevator | D55280001002
Left Hand Elevator | D55280001004
Left Hand Elevator | D55280001008
Left Hand Elevator | D55280001010
Left Hand Elevator | D55280001012
Left Hand Elevator | D55280002000
Right Hand Elevator | D55280001001
Right Hand Elevator | D55280001003
Right Hand Elevator | D55280001005
Right Hand Elevator | D55280001009
Right Hand Elevator | D55280001011
Right Hand Elevator | D55280001013
Right Hand Elevator | D55280002001

(1) A review of the airplane maintenance records is acceptable in lieu of the weight check required by paragraph (g) of this AD, provided the elevator weight can be conclusively determined from that review.

(2) The use of elevator weight data from production, as specified in Airbus Service Bulletin A320-55-1034, including Appendices 1 and 2, dated August 19, 2011, is acceptable in lieu of the weight check required by paragraph (g) of this AD, provided that the affected elevator has not been subjected to any maintenance action that could have modified the weight.

(3) Airplanes on which Airbus modification 150390 has been embodied in production are not required to do the actions specified in paragraph (g) of this AD, provided that no elevator having a part number (P/N) specified in table 1 to paragraph (g) of this AD has been installed on that airplane since the airplane's first flight.

(h) Compliance Time for the Actions Specified in Paragraph (g) of This AD

(1) For an elevator for which, as of the effective date of this AD, the records show that no maintenance actions have been performed since first installation of the elevator on an airplane, which might have increased its weight: Within 72 months after the effective date of this AD.

(2) For elevators other that those identified in paragraph (h)(1) of this AD: Within 48 months after the effective date of this AD.

(i) Corrective Actions

If the elevator weight, determined as required by paragraph (g) of this AD, exceeds the weight limit specified in the Accomplishment Instructions of Airbus Service Bulletin A320-55-1034, including Appendices 1 and 2, dated August 19, 2011: Before further flight, do the applicable corrective actions followed by a new weight check of the elevator, in accordance with the Accomplishment Instructions of Airbus Service Bulletin A320-55-1034, including Appendices 1 and 2, dated August 19, 2011. If the elevator weight, determined as required by the new weight check, exceeds the weight limit specified in the Accomplishment Instructions of Airbus Service Bulletin A320-55-1034, including Appendices 1 and 2, dated August 19, 2011: Before further flight, repair the elevator using a method approved by either the Manager, International Branch, ANM-116, Transport Airplane Directorate, FAA; or the European Aviation Safety Agency (EASA) (or its delegated agent).

(j) Elevator Re-Identification

If the elevator weight, determined by the weight check specified in paragraph (g) or (i) of this AD, does not exceed the weight limit specified in the Accomplishment Instructions of Airbus Service Bulletin A320-55-1034, including Appendices 1 and 2, dated August 19, 2011: Within 72 months after the effective date of this AD, record the elevator weight and re-identify the elevator, in accordance with the Accomplishment Instructions of Airbus Service Bulletin A320-55-1042, Revision 01, dated June 29, 2012.

(k) Credit for Previous Actions

This paragraph provides credit for actions required by paragraph (j) of this AD, if those actions were performed before the effective date of this AD using Airbus Service Bulletin A320-55-1042, dated August 19, 2011, which is not incorporated by reference in this AD.

(l) Parts Installation Limitation

As of the effective date of this AD, no person may install on any airplane an elevator with a part number listed in table 1 to paragraph (g) of this AD, unless that elevator is in compliance with the requirements of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(n) Related Information

(1) Refer to Mandatory Continuing Airworthiness Information (MCAI) EASA Airworthiness Directive 2012-0221, dated October 23, 2012, and the Airbus service information specified in paragraphs (n)(1)(i) and (n)(1)(ii) of this AD; for related information.

(i) Airbus Service Bulletin A320-55-1034, including Appendices 1 and 2, dated August 19, 2011.

(ii) Airbus Service Bulletin A320-55-1042, Revision 01, dated June 29, 2012.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Issued in Renton, Washington, on March 1, 2013.
Ali Bahrami,
Manager, Transport Airplane Directorate, Aircraft Certification Service.

[FR Doc. 2013-05563 Filed 3-8-13; 8:45 am]

BILLING CODE 4910-13-P